DEPARTMENT OF AGRICULTURE

Beginning Farmers and Ranchers Advisory Committee

AGENCY: Office of Advocacy and Outreach, USDA.

ACTION: Notice of public meeting.

SUMMARY: Pursuant to the Federal Advisory Committee Act (FACA), the Office of Advocacy and Outreach (OAO) is announcing a meeting of the Beginning Farmers and Ranchers Advisory Committee (BFRAC). The committee is being convened to consider issues involving barriers for beginning farmers and ranchers, including lending and access to U.S. Department of Agriculture (USDA) programs, resources, and land. The members will deliberate on recommendations to be prepared for USDA Secretarial consideration.

DATES: The committee meeting is scheduled for Thursday and Friday, September 29 and 30, 2016, from 8:30 a.m.-4:30 p.m. CST at the Cleveland Airport Marriott in Cleveland, Ohio. The meeting will be open to the public. All persons wishing to make comments during this meeting must check in between 8:30 a.m. and 9:30 a.m., and between 2:00 p.m. and 3:00 p.m. CST, on both days, at the registration table. All public commenters will be allowed a maximum of three minutes. If the number of registrants requesting to speak is greater than what can be reasonably accommodated during the scheduled open public meeting timeframe, speakers will be scheduled on a first-come basis. Public written comments for the committee's consideration may be submitted by close of business on September 22, 2016, to Mrs. Kenya Nicholas, Designated Federal Official, USDA OAO, 1400 Independence Avenue SW., Room 520-A, Washington, DC 20250-0170, Phone (202) 720-6350, Fax (202) 720-7704, Email: acbfr@osec.usda.gov. Written submissions are encouraged to either be less than one page in length, or be accompanied by an executive summary and a summary of policy initiatives.

A listen-only line will be available during the entire meeting for all who wish to listen in on the meeting or make public comments through the following telephone number: 1 (888) 790-3101 and enter passcode 6995865. Members of the public may also submit written comments for consideration to the committee via email at: acbfr@osec.usda.gov or fax to: (202) 720-7136.

ADDRESSES: This public advisory committee meeting will be held at the Cleveland Airport Marriott, 4277 West 150th Street, Cleveland, Ohio 44135. There will also be signs directing attendees to the meeting room.

FOR FURTHER INFORMATION CONTACT: Questions should be directed to Phyllis Morgan, Executive Assistant, OAO, 1400 Independence Avenue SW., Whitten Building, Room 520-A, Washington, DC 20250, Phone: (202) 720-6350; Fax: (202) 720-7704; email: Phyllis.Morgan@osec.usda.gov.

SUPPLEMENTARY INFORMATION: The BFRAC last met in Kansas City, Missouri, on August 3-4, 2015. The Secretary tasked the BFRAC with providing recommendations on access to land, farm business transition, and land tenure. They also considered issues around lending and credit in parsing statistics generated by USDA. Please visit our Web site at: http://www.outreach.usda.gov/smallbeginning/index.htm for additional information on the BFRAC.

The public is asked to pre-register for the meeting by midnight on September 23, 2016. You may pre-register for the public meeting by submitting an email to acbfr@osec.usda.gov with your name, organization or affiliation, or any comments for the committee's consideration. You may also fax this information to (202) 720-7704. Members of the public who wish to make comments during the committee meeting must register at the check-in table.

The agenda is as follows: Day 1: Committee discussions and public comments; Day 2: Committee discussions, public comments, and continued committee deliberations. Please visit the Beginning Farmers and Ranchers Advisory Committee Web site for the full agenda. All agenda topics and documents will be made available to the public by September 23, 2016, at: http://www.outreach.usda.gov/smallbeginning/index.htm. Copies of the agenda will also be distributed at the meeting.

Meeting Accommodations: USDA is committed to ensuring that everyone is accommodated in our work environment, programs, and events. If you are a person with a disability and request reasonable accommodations to participate in this meeting, please note the request in your registration and you may contact Mrs. Kenya Nicholas in advance of the meeting by or before noon on September 23, 2016, by phone at (202) 720-6350, fax (202) 720-7704, or email: kenya.nicholas@osec.usda.gov.

Dated: September 13, 2016.
Christian Obineme,
Associate Director, Office of Advocacy and Outreach.

[FR Doc. 2016-22406 Filed 9-16-16; 8:45 am]

BILLING CODE P